DEPARTMENT OF JUSTICE

Office of Justice Programs

[OMB Number 1121-0237]

Agency Information Collection Activities: Proposed Collection; Comments Requested

ACTION: 30-Day Notice of Information Collection Under Review: Extension of NCJRS Customer Satisfaction Surveys.

The Department of Justice (DOJ), Office of Justice Programs, has submitted the following extension of generic clearance for surveys to the Office of Management and Budget (OMB) for review and approval in accordance with the Paperwork Reduction Act of 1995. The proposed generic clearance extension is published to obtain comments from the public and affected agencies. This proposed information collection was previously published in the Federal RegisterVolume 71, Number 169 page 51857 on August 31, 2006 allowing for a 60 day comment period. The purpose of this notice is to allow for an additional 30 days for public comment until October 27, 2006. This process is conducted in accordance with 5 CFR 1320.10.

If you have comments, especially on the estimated public burden or associated response time, suggestions, or need a copy of the proposed information collection instrument with instructions or additional information, please contact William Ballweber, (202) 305-2975, National Institute of Justice, U.S. Department of Justice, 810 Seventh Street, NW., Washington, DC 20531.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: DOJ requests three year extension of generic clearance to conduct customer satisfaction surveys.

(2) Title of the Form/Collection: Generic Clearance of NCJRS Customer Satisfaction Surveys.

(3) Agency form number, if any, and the applicable component of the Department of Justice sponsoring the collection: Forms Numbers: NCJ-CR-01-00—NCJ-CR-01-06. Office of Justice Programs, U.S. Department of Justice.

(4) Affected public who will be asked or required to respond to survey request, as well as a brief abstract: Respondents will be current and potential users of agency products and services. Respondents may represent Federal agencies, State, local, and tribal governments, members of private organizations, research organizations, the media, non-profit organizations, international organizations, as well as faculty and students.

The purpose of such surveys is to assess needs, identify problems, and plan for programmatic improvements in the delivery of agency products and services.

(5) An estimate of the total number of respondents and the amount of time estimated for an average respondent to respond: It is estimated that there will be 75,195 total respondents for all surveys combined. It is estimated that mail surveys will average 10 minutes to complete; Web surveys will average 6 minutes; phone surveys will average 4 minutes to complete; and focus groups and teleconferences will average 90 minutes to complete.

(6) An estimate of the total public burden (in hours) associated with the collection is 21,894 hours. An estimate of the annual public burden associated with this collection is 7,298 hours.

If additional information is required contact: Lynn Bryant, Department Clearance Officer, Policy and Planning Staff, Justice Management Division, Department of Justice, Patrick Henry Building, Suite 1600, 601 D Street, NW., Washington, DC 20530.

Dated: September 20, 2006.
Lynn Bryant,
Department Clearance Officer, Department of Justice.

[FR Doc. 06-8212 Filed 9-26-06; 8:45 am]

BILLING CODE 4410-18-P